DEPARTMENT OF HEALTH AND HUMAN SERVICES

National Institutes of Health

Center for Scientific Review; Amended Notice of Meeting

Notice is hereby given of a change in the meeting of the Gastrointestinal Cell and Molecular Biology Study Section, September 18, 2006, 7:30 a.m. to September 18, 2006, 6 p.m., Bethesda Park Clarion Hotel, 8400 Wisconsin Ave., Bethesda, MD 20814, which was published in the Federal Register on August 10, 2006, 71 FR 45844. The meeting will be held September 17, 2006, 7 p.m. to September 18, 2006, 6 p.m. The meeting location remains the same. The meeting is closed to the public.

Dated: August 17, 2006.
Anna Snouffer,
Acting Director, Office of Federal Advisory Committee Policy.

[FR Doc. 06-7169 Filed 8-25-06; 8:45am]

BILLING CODE 4140-01-M